ENVIRONMENTAL PROTECTION AGENCY

40 CFR Part 1090

[EPA-HQ-OAR-2022-0513; FRL-9845.1-03-OAR]

RIN 2060-AW51

Extension of Effective Date for Removal of Gasoline Volatility Waiver for Ohio and Nine Counties in South Dakota

AGENCY: Environmental Protection Agency (EPA).

ACTION: Final rule.

SUMMARY: This final rule extends the effective date for removal of the 1-psi gasoline volatility waiver in Ohio and nine counties in South Dakota by one year from April 28, 2025, to April 28, 2026. This action responds to petitions from the Governors of Ohio and South Dakota requesting an extension of the effective date to the summer of 2026.

DATES:

Effective date. This final rule is effective on March 19, 2025.

Operational date. For operational purposes under the Clean Air Act (CAA), this final rule is effective as of March 14, 2025.

ADDRESSES: EPA has established a docket for this action under Docket ID No. EPA-HQ-OAR-2022-0513. All documents in the docket are listed on the https://www.regulations.gov website. Although listed in the index, some information is not publicly available, e.g., confidential business information (CBI) or other information whose disclosure is restricted by statute. Certain other material is not available on the internet and will be publicly available only in hard copy form. Publicly available docket materials are available electronically through https://www.regulations.gov.

FOR FURTHER INFORMATION CONTACT: For questions regarding this action, contact Lauren Michaels, Assessment and Standards Division, Office of Transportation and Air Quality, Environmental Protection Agency, 2000 Traverwood Drive, Ann Arbor, MI 48105; telephone number: (734) 214-4640; email address: michaels.lauren@epa.gov.

SUPPLEMENTARY INFORMATION:

Dates

EPA is taking this action as a final rule without prior proposal and public comment because EPA finds that the good cause exemption from the notice and comment rulemaking requirement of the Administrative Procedure Act (APA), 5 U.S.C. 551 et seq., applies here. Section 553(b)(B) of the APA, 5 U.S.C. 553(b)(B), provides that, when an agency for good cause finds (and incorporates the finding and a brief statement of reasons thereof in the rule issued) that notice and comment public procedures are impracticable, unnecessary, or contrary to the public interest, the agency may issue a rule without providing notice and an opportunity for public comment.

EPA has determined that there is good cause for promulgating this final rule without prior proposal and opportunity for comment. Notice and comment procedures are impracticable and contrary to the public interest, as they would not allow for implementation of this action prior to removal of the 1-psi waiver on the existing April 28, 2025, deadline, which would severely constrain the availability of gasoline in Ohio and western South Dakota. As described in section III, a recent explosion at a refinery that supplies gasoline to western South Dakota and the absence of necessary infrastructure to distribute low-RVP gasoline in Ohio, along with Ohio's unique status of not bordering any of the other States that petitioned for removal of the 1-psi waiver, would lead to an insufficient supply of gasoline in these areas if the 1-psi waiver were to be removed on April 28, 2025. Without this final rule, refineries would be unable to supply gasoline to these areas that meets the regulatory requirements, resulting in an insufficient supply of gasoline to the areas. Therefore, EPA is promulgating this final rule without prior proposal and opportunity for comment in order to expeditiously change the requirements before refineries and distributors need to supply gasoline to these areas and so that there is sufficient supply of gasoline in these States for the summer of 2025.

Additionally, we are determining there is good cause to make this final rule immediately operational upon signature. When an agency grants or recognizes an exemption or relieves a restriction, affected parties do not need a reasonable time to adjust because the effect is not adverse. Here, the regulatory amendments to 40 CFR part 1090 relieve a restriction by extending the compliance deadline for the removal of the 1-psi waiver in Ohio and nine counties in South Dakota by one year ahead of the otherwise imminent deadline of April 28, 2025, thus providing refiners and distributors additional time to make the capital investments and physical changes to refineries and the fuel distribution system necessary to supply these areas with low-RVP gasoline and to ensure there is not an insufficient supply of gasoline in these areas. Because the rule revisions relieve a restriction and advance notice is not needed, this final rule is immediately operational upon signature.

Does this action apply to me?

Entities potentially affected by this final rule are those involved with the production, distribution, and sale of transportation fuels, including gasoline and diesel fuel. Potentially affected categories include:

Category | NAICS ᵃ code | Examples of potentially affected entities
Industry | 211130 | Natural gas liquids extraction and fractionation.
Industry | 221210 | Natural gas production and distribution.
Industry | 324110 | Petroleum refineries (including importers).
Industry | 325110 | Butane and pentane manufacturers.
Industry | 325193 | Ethyl alcohol manufacturing.
Industry | 325199 | Manufacturers of gasoline additives.
Industry | 424710 | Petroleum bulk stations and terminals.
Industry | 424720 | Petroleum and petroleum products wholesalers.
Industry | 447110, 447190 | Fuel retailers.
Industry | 454310 | Other fuel dealers.
Industry | 486910 | Natural gas liquids pipelines, refined petroleum products pipelines.
Industry | 493190 | Other warehousing and storage—bulk petroleum storage.
ᵃ North American Industry Classification System (NAICS).

This table is not intended to be exhaustive, but rather provides a guide for readers regarding entities likely to be affected by this action. This table lists the types of entities that EPA is now aware could potentially be affected by this action. Other types of entities not listed in the table could also be affected. To determine whether your entity would be affected by this action, you should carefully examine the applicability criteria in 40 CFR part 1090. If you have any questions regarding the applicability of this action to a particular entity, consult the person listed in the FOR FURTHER INFORMATION CONTACT section.

Outline of This Preamble

I. Background and Overview

II. Statutory Authority

III. Finding of Insufficient Supply for 2025 and Renewal of Extension of Effective Date for Ohio and the Nine Counties in South Dakota

A. Ohio

B. South Dakota

V. Statutory and Executive Order Reviews

A. Executive Order 12866: Regulatory Planning and Review

B. Executive Order 14192: Unleashing Prosperity Through Deregulation

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR Part 51

K. Congressional Review Act (CRA)

VI. Statutory Authority

I. Background and Overview

EPA first took regulatory action to control the volatility of gasoline in 1987.¹ Because higher gasoline volatility leads to higher evaporative emissions, EPA regulates the Reid vapor pressure (RVP)—a measure of fuel volatility—of gasoline during summer months in order to reduce volatile organic compound (VOC) emissions that contribute to the formation of smog (ground-level ozone).² The volatility of fuel depends on the refinery's decisions in formulating its gasoline. Subsequent to EPA's actions, Congress enacted the Clean Air Act (CAA) Amendments of 1990, which included volatility provisions for summer gasoline. These provisions generally codified EPA's regulatory approach, including establishing a 9.0 psi RVP standard for gasoline volatility in the summer.³ Because blending ethanol into gasoline increases the volatility of the resulting fuel blend due to chemical differences between ethanol and gasoline, Congress also codified a 1-psi volatility waiver for gasoline containing between 9 and 10 percent ethanol (E10) (the “1-psi waiver”), allowing such blends to have a 1.0-psi higher RVP than otherwise allowed for gasoline, consistent with EPA's prior regulatory approach.⁴ This allowance only applies to gasoline-ethanol blends containing between 9 and 10 percent ethanol, and does not extend to gasoline-ethanol blends containing greater than 10 percent ethanol.⁵ The 1-psi waiver also does not apply to reformulated gasoline (RFG).

¹ See 52 FR 31274 (August 19, 1987); Subsequent regulatory actions occurred in 1989 and 1990. 54 FR 11868 (March 22, 1989); 55 FR 23658 (June 11, 1990).

² Gasoline must have volatility in the proper range to prevent driveability, performance, and emissions problems. If the volatility is too low, the gasoline will not ignite properly; if the volatility is too high, the vehicle may experience vapor lock. Importantly for this action, excessively high volatility also leads to increased evaporative emissions from the vehicle. Vehicle evaporative emission control systems are designed and certified on gasoline with a volatility of 9.0 psi RVP. Higher volatility gasoline may overwhelm the vehicle's evaporative control system, leading to a condition described as “breakthrough” of the cannister and mostly uncontrolled evaporative emissions.

³ CAA section 211(h)(1). CAA section 211(h)(1) requires EPA to establish volatility requirements—that is, a restriction on RVP—during the high ozone season. To implement these requirements, EPA defines “high ozone season” or “summer season” at 40 CFR 1090.80 as “the period from June 1 through September 15 for retailers and wholesale purchaser consumers, and May 1 through September 15 for all other persons, or an RVP control period specified in a state implementation plan if it is longer.” In general practice by industry and for purposes of this preamble, the high ozone season is referred to as the “summer” or “summer season” and gasoline produced to be used during the high ozone season is called “summer gasoline.” EPA's regulations do not impose any volatility requirements on any type of blend of gasoline outside of the summer season.

⁴ CAA section 211(h)(4).

⁵ The statutory 1-psi waiver is codified at 40 CFR 1090.215(a).

In 1990, when Congress first codified the provision for the 1-psi waiver, a relatively small portion of the gasoline sold in the United States contained up to 10 percent ethanol. Today, almost all gasoline sold is E10, and thus, the 1-psi waiver increases the volatility of most gasoline introduced into commerce nationwide.

On February 29, 2024, EPA promulgated a rule removing the 1-psi waiver for E10 in Illinois, Iowa, Missouri, Minnesota, Nebraska, Ohio, South Dakota, and Wisconsin (the “Applicable States”) pursuant to CAA section 211(h)(5) (the “2024 final rule”).⁶ CAA section 211(h)(5) requires EPA to remove the 1-psi waiver for E10 in a State upon request by the Governor of the State if accompanied by necessary supporting documentation.

⁶ 89 FR 14760.

In response to a request from the Governors of Ohio ⁷ and South Dakota,⁸ EPA is renewing the extension of the effective date of the removal of the 1-psi waiver for Ohio and nine counties in South Dakota. For the reasons described in section III and consistent with the CAA, we find that there would be an insufficient supply of gasoline in Ohio and nine counties in South Dakota if the removal of the 1-psi waiver were to go into effect as currently required on April 28, 2025. Therefore, EPA is acting on its own motion to renew the extension of the effective date by one year to April 28, 2026, for the entire State of Ohio, and the following nine counties in South Dakota: Butte, Custer, Fall River, Harding, Lawrence, Meade, Oglala Lakota, Pennington, and Perkins (“the nine counties”).

⁷ Petition from Ohio Governor Mike DeWine (January 24, 2025).

⁸ Petition from South Dakota Governor Larry Rhoden (February 25, 2025).

II. Statutory Authority

Under CAA section 211(h)(5)(C), the regulations removing the 1-psi waiver shall take effect on the later of: (1) The first day of the first high ozone season for the area that begins after the date of receipt of the notification; or (2) 1 year after the date of receipt of the notification. The high ozone season is defined in EPA's regulations as “June 1 through September 15 for retailers and [wholesale purchaser consumers (WPCs)], and May 1 through September 15 for all other persons.” ⁹

⁹ 40 CFR 1090.80. We note that given the current definition of “high ozone season,” the later date will always be one year after receipt of the request from a governor.

Further, under CAA section 211(h)(5)(C), the effective date can be extended if EPA, on its own motion or on petition from any person, after consultation with the Secretary of Energy, determines there would be an insufficient supply of gasoline in a State that has requested the removal of the 1-psi waiver for E10.¹⁰ CAA section 211(h)(5)(C)(ii)(I)(aa) further provides that the effective date can be extended “with respect to the area” for not more than one year. Additionally, EPA may renew the extension for two additional periods, each of which shall not exceed one year.¹¹

¹⁰ 89 FR 14768. CAA section 211(h)(5)(C)(ii).

¹¹ CAA section 211(h)(5)(C)(ii)(I)(aa).

In the 2024 final rule, EPA viewed the phrase “insufficient supply of gasoline” as calling for a demonstration that gasoline supply disruptions would result from removal of the 1-psi waiver, such that the necessary quantities of gasoline may not be available in a State at the time they are required. EPA further posited that this demonstration was particularly appropriate because removal of the 1-psi waiver would call for a different type of gasoline to be physically produced and transported to and within the Applicable States. We also explained that our view was consistent with the historical application of similar or related provisions, and congressional intent.¹²

¹² For a complete discussion of our view of the phrase “insufficient supply of gasoline,” as well as our historical treatment of related provisions in CAA section 211, see 89 FR 14768-69.

Regarding the requisite determination of “insufficient supply,” under CAA section 211(h)(5)(C)(ii)(I), in the 2024 final rule, we also explained that our analysis of “insufficient supply” should be “in the State” petitioning for the removal of the 1-psi waiver. That is, if there was insufficient supply only in a single State, we could extend the effective date for that State only.¹³ CAA section 211(h)(5)(C) explicitly contemplates the “supply of gasoline in the State.” Where the Governor's request for extension of the effective date relates to either the entire State or only certain portions of a State, EPA would thus be able to extend the effective date in both of those areas if the requisite determination of insufficient supply of gasoline can be made. It also bears noting that CAA section 211(h)(5) allows for removal of the 1-psi waiver if it “will increase emissions that contribute to air pollution in any area of the State.” ¹⁴

¹³ 89 FR 14769.

¹⁴ For our discussion on areas where the RVP standards apply, see 89 FR 14764-68.

Therefore, our analysis of insufficient supply of gasoline, which is contained in section III, considered State-specific factors and examined the supply issues in Ohio and the nine counties in South Dakota. We have also reviewed the present extension requests for demonstrations of supply disruptions in Ohio and the nine counties in South Dakota because the removal of the 1-psi waiver would call for a different type of gasoline to be physically produced and transported to and within Ohio and the nine counties in South Dakota. Our analysis therefore further considered all stages of the gasoline production and distribution system (i.e., from the refinery to the retail outlet in Ohio and the nine counties in South Dakota). In sum, we have determined that there is insufficient supply of gasoline in Ohio and the nine counties in South Dakota for purposes of our extension of the effective date of the removal of the 1-psi waiver in Ohio and the nine counties in South Dakota.¹⁵

¹⁵ Other areas in South Dakota continue to be subject to the April 28, 2025, effective date. Table 1 to 40 CFR 1090.215(b)(3)(ii).

III. Finding of Insufficient Supply for 2025 and Renewal of Extension of Effective Date for Ohio and the Nine Counties in South Dakota

In this section we discuss our finding of insufficient supply of gasoline in Ohio and the nine counties in South Dakota for the summer of 2025, which underpins the decision to renew the extension of the effective date by one year to April 28, 2026.

In the 2024 final rule, we determined that either a 2023 or 2024 implementation date would result in insufficient supply of gasoline and finalized an effective date of April 28, 2025, for removal of the 1-psi waiver for all Applicable States.¹⁶ After the issuance of the 2024 final rule, the Governors of Ohio ¹⁷ and South Dakota ¹⁸ submitted petitions requesting a delay of the effective date from 2025 until 2026.¹⁹ After consideration of both petitions, EPA is acting on its own motion to renew the extension of the effective date of the removal of the 1-psi waiver for Ohio and the nine counties in South Dakota by one year from April 28, 2025, to April 28, 2026. Under CAA section 211(h)(5)(C)(ii)(I)(bb), this is the latest possible effective date for the removal of the 1-psi waiver for Ohio and the nine counties in South Dakota. Additionally, we have consulted with the Department of Energy, consistent with the CAA section 211(h)(5)(C)(ii)(I).²⁰

¹⁶ 89 FR 14769-70. Our detailed finding of insufficient supply for 2023 and 2024 can be found at 88 FR 13767 (March 6, 2023) and 89 FR 14769-71 (February 29, 2024), respectively. EPA had originally proposed an effective date of April 28, 2024.

¹⁷ Petition from Ohio Governor Mike DeWine (January 24, 2025).

¹⁸ Petition from South Dakota Larry Rhoden (February 25, 2025).

¹⁹ EPA also received petitions from other stakeholders: Petition from CountryMark (October 25, 2024); Petition from American Fuel and Petrochemical Manufacturers (AFPM) (November 7, 2024); Petition from American Petroleum Institute (API) (November 8, 2024); Petition from Kansas Governor Laura Kelly to EPA (February 6, 2025). To the extent those petitions also requested a delay for Ohio and the nine counties in South Dakota, this final rule is intended to resolve those requests.

²⁰ See “Documentation of Consultation between EPA and DOE,” available in the docket for this action.

CAA section 211(h)(5)(C)(ii)(I) requires a determination of insufficient supply of gasoline to renew the extension of the effective date of the removal of the 1-psi waiver. In our prior actions, to make the requisite determination of insufficient supply of gasoline, we assessed the following supply constraints: (1) Low gasoline inventories; ²¹ (2) The limited time available for coordination between various parties to make the necessary physical changes to the gasoline production and distribution infrastructure; ²² and (3) The physical loss of supply necessary to produce low-RVP gasoline.²³ We also considered the following: (1) The lack of sufficient time to make the capital investments and physical changes to refineries and the fuel distribution system; and (2) Less flexibility within the fuel distribution system than had been anticipated to adequately mitigate the supply reduction until such time as the capital and physical changes can be made.²⁴

²¹ We are not relying on this consideration to justify our determination of insufficient supply of gasoline in Ohio and the nine counties in South Dakota because low gasoline inventories are not a significant factor.

²² We are not relying on this consideration to justify our determination of insufficient supply of gasoline in Ohio and the nine counties of South Dakota because although there are some ongoing supply concerns, we continue to believe that refineries, pipelines, and terminals could have coordinated and increased flexibility within the fuel distribution system after EPA finalized the removal of the 1-psi waiver in February 2024.

²³ We are relying on this factor to justify our determination of insufficient supply of gasoline in only the nine counties in South Dakota.

²⁴ Our detailed finding of insufficient supply for 2023 and 2024 can be found at 88 FR 13767 (March 6, 2023), and 89 FR 14769-71 (February 29, 2024), respectively.

We have considered State-specific factors that inform two of the bases we considered in our past actions. For Ohio, we have considered the arguments the Governor of Ohio makes in his petition concerning the lack of time to make capital investments and required physical changes. For South Dakota, we have considered the arguments the Governor of South Dakota makes in his petition concerning the physical loss of supply necessary to produce low-RVP gasoline due to a recent extraordinary event at a refinery that supplies gasoline to western South Dakota. Based on our review of these considerations, EPA is acting on its own motion to renew the extension of the effective date for the removal of the 1-psi waiver by one year to the April 28, 2026, because its implementation for the summer of 2025 would result in insufficient supply of gasoline in Ohio and the nine counties in South Dakota.

A. Ohio

The Governor of Ohio requested the delay of the effective date for the removal of the 1-psi waiver until 2026, indicating that the petroleum industry in Ohio continues to express concerns “about their ability to install the necessary infrastructure to comply with the federal rule by the effective date.” ²⁵ As previously discussed, in the 2024 final rule, we considered the absence of necessary infrastructure and thus, the lack of time for refiners and gasoline distributors to make capital investments and physical changes would likely result in insufficient supply of gasoline. Thus, we view the absence of necessary infrastructure to supply gasoline to Ohio as a valid consideration for our determination of insufficient supply for the summer of 2025, as described further below. In considering the absence of necessary infrastructure, we also took note of Ohio's geographic location as it relates to the other seven States that petitioned for removal of the 1-psi waiver because Ohio is geographically isolated from these other states. In our view, this geographic isolation could uniquely affect Ohio, as parts of the State receive a significant amount of gasoline from refineries and pipelines located in States that have not petitioned for removal of the 1-psi waiver. Refineries in these States—such as Indiana—supply gasoline not just to Ohio but also to their own States, and thus would need to produce multiple gasoline blends. For instance, CountryMark—a refiner that operates a refinery in Mt. Vernon, Indiana—primarily distributes its gasoline to Indiana, but also supplies Ohio and Illinois, both of which petitioned for removal of the 1-psi waiver. CountryMark has also petitioned EPA for a delay of the removal of the 1-psi waiver in part due to concerns about supplying Ohio and surrounding States.²⁶ In its petition, CountryMark stated that the Mt. Vernon refinery's existing infrastructure would hinder the logistics of producing and supplying two grades of gasoline to all its customers and explicitly stated that while it plans to supply Illinois, it would “most likely not be able to supply [its] members in Ohio.”

²⁵ Petition from Ohio Governor Mike DeWine (January 24, 2025).

²⁶ Petition from CountryMark (October 25, 2024).

As also discussed in the 2024 final rule, capital investments are necessary for most refiners and fuel distributors supplying gasoline to the Applicable States to accommodate a transition to low-RVP gasoline in those States.²⁷ We explained that these capital investments typically require time to come online. For example, projects to debottleneck existing refinery units typically require 2-2.5 years to engineer, design, purchase, permit, and install. We also assumed that even if these refiners and fuel distributors began the planning process for either debottlenecking a refinery unit or installing a gasoline storage tank after the first State filed its petition in April 2022, or after EPA proposed to remove the 1-psi waiver for the Applicable States in early 2023, there would be insufficient time prior to the summer of 2024 to complete the desired capital additions.²⁸

²⁷ 89 FR 14764-68. We discussed necessary investments for the storage of additional types and grades of gasoline at refineries, pipeline breakout tanks, and downstream terminals, storage of excess butane and light straight-run naphtha (LSR), and associated measures for piping, pumping, and spill containment. We also anticipated that refineries would need to debottleneck debutanizers and octane-producing units to enable the production of low-RVP gasoline.

²⁸ Capital grassroots projects typically require 3-4 years to engineer, design, purchase, permit and install. Smaller projects that can “debottleneck” individual refinery units (e.g., replacing a furnace, heat exchanger, or reactor) typically require 2-2.5 years to complete, while much smaller projects (e.g., replacing a valve or pump or adding or increasing the size of piping) may be designed and completed in a year or less. These types of capital investments can help a refinery produce additional low-RVP gasoline. Shell, “Thriving in the new reality: Refinery revamp projects FAQ; Shell Catalysts and Technologies,” https://www.shell.com/business-customers/catalysts-technologies/resources-library/refinery-revamp-faq.html. 89 FR 14771.

Additionally, we explained that refiners, pipeline operators, and terminal operators had indicated that many of the needed capital investments were not initiated in 2022 due in part to: (1) The uncertainty created by several States rescinding their petitions in 2022; (2) The emergency fuel waivers we issued under CAA section 211(c)(4)(C)(ii)(I) extending the 1-psi waiver to E15 during the 2023 summer season; ²⁹ and (3) Potential congressional action that would extend the 1-psi waiver to E15 nationwide.³⁰

²⁹ From April 28, 2023, to August 28, 2023, EPA issued a waiver under CAA section 211(c)(4)(C)(ii)(I) that facilitated E15 sales during the summer of 2023.

³⁰ See, e.g., comments from Magellan (Docket Item No. EPA-HQ-OAR-2022-0513-0042), API (Docket Item No. EPA-HQ-OAR-2022-0513-0056), and HF Sinclair (Docket Item No. EPA-HQ-OAR-2022-0513-0076).

We continue to believe that refiners like CountryMark that supply gasoline to Ohio are unlikely to complete the necessary capital investments by the summer of 2025 because they were not initiated by 2022. We also believe that these refiners might not have made the necessary capital investments because they were concerned that the long-anticipated congressional action to extend the 1-psi waiver to E15 nationwide would negate any capital investments made. In sum, we believe that the lack of capital investments, which was also identified by the Governor of Ohio, has contributed to the inability for the petroleum industry to supply the Ohio gasoline market with low-RVP gasoline.

Our determination of insufficient supply of gasoline in Ohio for the summer of 2025 is premised on the absence of necessary infrastructure and thus the lack of time for refiners and gasoline distributors to make capital investments and physical change, which is further exacerbated by Ohio's unique status of not bordering any of the other Applicable States.

B. South Dakota

The Governor of South Dakota requested a delay of the effective date for the removal of the 1-psi waiver in nine counties until 2026, and referenced an unexpected disruption in supply to western South Dakota as support.³¹ Specifically, in February 2025, an explosion at Wyoming Refining Company's Newcastle, Wyoming refinery—which supplies the majority of its fuel to western South Dakota ³²—caused the refinery to be idled indefinitely.³³ This supply disruption will likely impact the nine counties in South Dakota and make distribution of low-RVP gasoline to the area difficult for the summer of 2025. Wyoming refineries, including the Newcastle refinery, supply gasoline to western South Dakota through a pipeline.³⁴ We view this reduction and ongoing elimination of gasoline supply from that pipeline due to the refinery outage as contributing to the physical loss of supply necessary to produce low-RVP gasoline. Requiring the use of low-RVP gasoline in the nine counties in South Dakota for the summer of 2025 would likely result in a significant gasoline supply shortage. Therefore, the physical loss of supply resulting from the explosion at the Newcastle refinery, which supplies most of its fuel to the nine counties in South Dakota, is the basis for our determination that there will be an insufficient supply of gasoline in this area of South Dakota for the summer of 2025.

³¹ Petition from South Dakota Larry Rhoden (February 25, 2025).

³² Par Pacific, “Wyoming Refining Company Overview,” https://www.parpacific.com/operations/refining-logistics/wyoming.

³³ Wyoming Tribune Eagle “Cause of refinery explosion near Newcastle under investigation,” February 17, 2025. https://www.wyomingnews.com/news/local_news/cause-of-refinery-explosion-near-newcastle-under-investigation/article_1280f7e8-ed85-11ef-8874-fb1ef9beeead.html.

³⁴ Figure 2.C-2, “Request from States for Removal of Gasoline Volatility Waiver: Technical Support Document and Cost Analysis,” EPA-420-R-24-002, February 2024.

V. Statutory and Executive Order Reviews

Additional information about these statutes and Executive orders can be found at https://www.epa.gov/laws-regulations/laws-and-executive-orders.

A. Executive Order 12866: Regulatory Planning and Review

This action is not a significant regulatory action as defined in Executive Order 12866 and was therefore not subject to a requirement for Executive Order 12866 review.

B. Executive Order 14192: Unleashing Prosperity Through Deregulation

This action alleviates regulatory burden as described in Executive Order 14192.

C. Paperwork Reduction Act (PRA)

This action does not impose any new information collection burden under the PRA. OMB has previously approved the information collection activities contained in the existing regulations and has assigned OMB control number 2060-0731. This action extends the effective date for the removal of the 1-psi waiver for Ohio and the nine counties in South Dakota. It does not alter practices used by the existing recordkeeping and reporting requirements, nor does it change the number or type of respondents and the manner in which they satisfy the fuel designation and product transfer document requirements.

D. Regulatory Flexibility Act (RFA)

This action is not subject to the RFA. The RFA applies only to rules subject to notice and comment rulemaking requirements under the Administrative Procedure Act (APA), 5 U.S.C. 553, or any other statute. This rule is not subject to notice and comment requirements because EPA has invoked the APA “good cause” exemption under 5 U.S.C. 553(b). EPA's discussion of the good cause finding for this rule, including the basis for that finding, is discussed in the SUPPLEMENTARY INFORMATION section.

E. Unfunded Mandates Reform Act (UMRA)

This action does not contain an unfunded mandate of $100 million or more as described in UMRA, 2 U.S.C. 1531-1538, and does not significantly or uniquely affect small governments. This action implements mandates specifically and explicitly set forth in CAA section 211(h)(5) without the exercise of any policy discretion by EPA.

F. Executive Order 13132: Federalism

This action does not have federalism implications. It will not have substantial direct effects on the States, on the relationship between the national government and the States, or on the distribution of power and responsibilities among the various levels of government.

G. Executive Order 13175: Consultation and Coordination With Indian Tribal Governments

This action does not have tribal implications as specified in Executive Order 13175. This action will be implemented at the State level and would affect gasoline refiners, blenders, marketers, distributors, and importers. Tribal governments would be affected only to the extent they produce, purchase, and use gasoline. Thus, Executive Order 13175 does not apply to this action.

H. Executive Order 13045: Protection of Children From Environmental Health Risks and Safety Risks

EPA interprets Executive Order 13045 as applying only to those regulatory actions that concern environmental health or safety risks that EPA has reason to believe may disproportionately affect children, per the definition of “covered regulatory action” in section 2-202 of the Executive Order. Therefore, this action is not subject to Executive Order 13045 because it implements specific standards established by Congress in statutes.

I. Executive Order 13211: Actions Concerning Regulations That Significantly Affect Energy Supply, Distribution, or Use

This action is not a “significant energy action” because it is not likely to have a significant adverse effect on the supply, distribution, or use of energy. This action extends the effective date for the removal of the 1-psi waiver for Ohio and the nine counties in South Dakota. As discussed in the 2024 final rule, removal of the 1-psi waiver will require changes to the production and distribution of gasoline, which is expected to have some short- and long-term impacts on gasoline supply and cost in the affected areas, but we believe the market will be able to accommodate the change without any significant disruption.³⁵

³⁵ 89 FR 14764-68.

J. National Technology Transfer and Advancement Act (NTTAA) and 1 CFR Part 51

This action does not involve technical standards.

K. Congressional Review Act (CRA)

This action is subject to the CRA, and EPA will submit a rule report to each House of the Congress and to the Comptroller General of the United States. This action is not a “major rule” as defined by 5 U.S.C. 804(2).

VI. Statutory Authority

Statutory authority for this action comes from sections 211(h) and 301(a) of the Clean Air Act, as amended; 42 U.S.C. 7545(h) and 7601(a). Statutory authority for the rulemaking procedures followed in this action is provided by Administrative Procedure Act (APA) section 553(b)(B), 5 U.S.C. 553(b)(B) (good cause exception to notice and comment rulemaking).

List of Subjects in 40 CFR Part 1090

Environmental protection, Administrative practice and procedure, Air pollution control, Fuel additives, Gasoline, Petroleum, Renewable fuel.

Lee Zeldin,
Administrator.

For the reasons set forth in the preamble, EPA amends 40 CFR part 1090 as follows:

PART 1090—REGULATION OF FUELS, FUEL ADDITIVES, AND REGULATED BLENDSTOCKS

1. The authority citation for part 1090 continues to read as follows:

Authority: 42 U.S.C. 7414, 7521, 7522-7525, 7541, 7542, 7543, 7545, 7547, 7550, and 7601.

Subpart C—Gasoline Standards

2. Amend § 1090.215 by revising table 2 to paragraph (b)(3)(ii) to read as follows:

§ 1090.215 Gasoline RVP standards.

* * * * *

(b) * * *

(3) * * *

(ii) * * *

Table 2 to Paragraph (b)(3)(ii)—Areas Excluded From the Ethanol 1.0 psi Waiver
State | Counties | Effective date
Illinois | All | April 28, 2025.
Iowa | All | April 28, 2025.
Minnesota | All | April 28, 2025.
Missouri | All | April 28, 2025.
Nebraska | All | April 28, 2025.
Ohio | All | April 28, 2026.
South Dakota | All except Butte, Custer, Fall River, Harding, Lawrence, Meade, Oglala Lakota, Pennington, and Perkins | April 28, 2025.
South Dakota | Butte, Custer, Fall River, Harding, Lawrence, Meade, Oglala Lakota, Pennington, and Perkins | April 28, 2026.
Wisconsin | All | April 28, 2025.

* * * * *

[FR Doc. 2025-04751 Filed 3-19-25; 8:45 am]

BILLING CODE 6560-50-P